DEPARTMENT OF HOMELAND SECURITY

U.S. Customs and Border Protection

Revocation of Trust Control International (Houston, TX), as an Approved Commercial Gauger

AGENCY: U.S. Customs and Border Protection, Department of Homeland Security.

ACTION: General notice of revocation of Trust Control International as a customs-approved gauger.

SUMMARY: Notice is hereby given, pursuant to the U.S. Customs and Border Protection (CBP) regulations, that CBP's approval for Trust Control International's Houston, Texas, facility has been revoked from gauging petroleum and petroleum products for customs purposes.

DATES: The date of revocation is September 29, 2021.

FOR FURTHER INFORMATION CONTACT: Dr. Eugene Bondoc, Laboratories and Scientific Services Directorate, U.S. Customs and Border Protection, 1300 Pennsylvania Avenue NW, Suite 1500N, Washington, DC 20229, tel. 202-344-1060.

SUPPLEMENTARY INFORMATION: Notice is hereby given that, regarding Trust Control International (Trust Control), 2800 Post Oak Blvd., Suite 4100, Williams Tower, Houston, TX 77056, Trust Control's approval has been indefinitely revoked from gauging petroleum and petroleum products for customs purposes in accordance with section 151.13 of the U.S. Customs and Border Protection (CBP) regulations in title 19 of the Code of Federal Regulations (CFR), (19 CFR 151.13). The basis for this revocation is pursuant to 19 CFR 151.13(d)(1)(vii), for the failure to meet the obligation as a CBP-approved commercial gauger to maintain a customs bond in accordance with part 113 of the CBP regulations (19 CFR part 113).

Inquiries regarding the entity's status as an approved gauger may be directed to CBP by calling (202) 344-1060 or by sending an email to CBPGaugersLabs@cbp.dhs.gov. Please reference the website listed below for a complete listing of CBP-approved commercial gaugers and accredited laboratories. http://www.cbp.gov/about/labs-scientific/commercial-gaugers-and-laboratories

Dated: September 23, 2021.
Larry D. Fluty,
Executive Director, Laboratories and Scientific Services.

[FR Doc. 2021-21088 Filed 9-28-21; 8:45 am]

BILLING CODE 9111-14-P